FEDERAL COMMUNICATIONS COMMISSION

47 CFR Part 73

[DA 01-1148; MM Docket No. 00-42; RM-9826]

Radio Broadcasting Services; Charleroi and Duquesne, PA

AGENCY: Federal Communications Commission.

ACTION: Final rule.

SUMMARY: The Commission, at the request of Keymarket Licenses, LLC, reallots Channel 252A from Charleroi to Duquesne, Pennsylvania, and modifies Station WOGI-FM's license accordingly. See 65 FR 15886, March 24, 2000. Channel 252A can be reallotted to Duquesne in compliance with the Commission's minimum distance separation requirements with a site restriction of 3.1 kilometers (1.9 miles) east at petitioner's requested site. The coordinates for Channel 252A at Duquesne are 40-21-52 North Latitude and 79-48-49 West Longitude.

DATES: Effective June 18, 2001.

FOR FURTHER INFORMATION CONTACT: Sharon P. McDonald, Mass Media Bureau, (202) 418-2180.

SUPPLEMENTARY INFORMATION: This is a synopsis of the Commission's Report and Order, MM Docket No. 00-42, adopted April 25, 2001 , and released May 4, 2001. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

47 CFR PART 73—RADIO BROADCAST SERVICES

1. The authority citation for part 73 continues to read as follows:

Authority: 47 U.S.C. 54, 303, 334, and 336.

§ 73.202 [Amended]

2. Section 73.202(b), the Table of FM Allotments under Pennsylvania, is amended by removing Channel 252A at Charleroi and by adding Duquesne, Channel 252A.

Federal Communications Commission.
John A. Karousos,
Chief, Allocations Branch, Policy and Rules Division, Mass Media Bureau.

[FR Doc. 01-12269 Filed 5-15-01; 8:45 am]

BILLING CODE 6712-01-P